DEPARTMENT OF COMMERCE

International Trade Administration

[A-570-894, A-570-895]

Notice of Initiation of Antidumping Duty Investigations: Certain Tissue Paper Products and Certain Crepe Paper Products from the People's Republic of China

AGENCY: Import Administration, International Trade Administration, Department of Commerce.

EFFECTIVE DATE: March 15, 2004.

FOR FURTHER INFORMATION CONTACT: Michael Ferrier at (202) 482-2667, Rachel Kreissl at (202) 482-0409, and Nazak Nikakhtar at (202) 482-9079 of Import Administration, International Trade Administration, U.S. Department of Commerce, 14th Street and Constitution Avenue, NW., Washington, DC 20230.

SUPPLEMENTARY INFORMATION:

Initiation of Investigations

The Petition

On February 17, 2004, the Department of Commerce (“Department”) received an antidumping duty petition (“Petition”) filed in proper form by Seaman Paper Company of Massachusetts, Inc. (“Seaman”); American Crepe Corporation (“American Crepe”); Eagle Tissue LLC (“Eagle”); Flower City Tissue Mills Co. (“Flower City”); Garlock Printing & Converting, Inc. (“Garlock”); Paper Service Ltd. (“Paper Service”); Putney Paper Co., Ltd. (“Putney”); and the Paper, Allied-Industrial, Chemical and Energy Workers International Union AFL-CIO, CLC (“PACE”) (collectively “Petitioners”). Seaman, Eagle, Flower City , Garlock, Paper Service, and Putney are domestic producers of certain tissue paper products. Seaman and American Crepe are domestic producers of certain crepe paper products. On February 18, 2004, February 20, 2004, and February 24, 2004, the Department asked Petitioners to clarify certain aspects of the Petition. On February 23, 2004, February 24, 2004, and February 27, 2004, Petitioners submitted information to supplement the Petition (“First Supplemental Response,” “Second Supplemental Response,” and “Third Supplemental Response,” respectively). On February 27, 2004, the Department requested that Petitioners provide publicly ranged data for the quantity and value of imports (see Memorandum to the File: Request for Publicly Ranged Data for Volume and Value of Imports of Tissue Paper and Crepe Paper From the Peoples Republic of China, dated February 27, 2004). On March 3, 2004, Petitioners filed their response to the Department's request (“Fourth Supplemental Response”). In accordance with section 732(b) of the Tariff Act of 1930, as amended (“the Act”), Petitioners allege that both imports of certain tissue paper products and certain crepe paper products from the People's Republic of China (“PRC”) are being, or are likely to be, sold in the United States at less than fair value within the meaning of section 731 of the Act, and that such imports are materially injuring, or threatening material injury to, the respective U.S. industries.

The Department finds that Petitioners filed their Petition on behalf of each domestic industry because they are an interested party as defined in section 771(9)(C) of the Act, and Petitioners have demonstrated sufficient industry support with respect to the investigations they are presently seeking. See Determination of Industry Support for the Petition section below.

Determination of Industry Support for the Petition

Section 732(b)(1) of the Act requires that a petition be filed on behalf of the domestic industry. Section 732(c)(4)(A) of the Act provides that the Department's industry support determination, which is to be made before the initiation of the investigation, be based on whether a minimum percentage of the relevant industry supports the petition. A petition meets this requirement if the domestic producers or workers who support the petition account for: (i) at least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) poll the industry or rely on other information in order to determine if there is support for the petition, as required by subparagraph (A), or (ii) determine industry support using a statistically valid sampling method.

Section 771(4)(A) of the Act defines the “industry” as the producers of a domestic like product. Thus, to determine whether a petition has the requisite industry support, the statute directs the Department to look to producers and workers who produce the domestic like product. The International Trade Commission (“ITC”), which is responsible for determining whether “the domestic industry” has been injured, must also determine what constitutes a domestic like product in order to define the industry. While both the Department and the ITC must apply the same statutory definition regarding the domestic like product (section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (Ct. Int'l Trade 2001), citing Algoma Steel Corp. Ltd. v. United States, 688 F. Supp. 639, 642-44 (Ct. Int'l Trade 1988).

Section 771(10) of the Act defines the domestic like product as “a product which is like, or in the absence of like, most similar in characteristics and uses with, the article subject to an investigation under this title.” Thus, the reference point from which the domestic like product analysis begins is “the article subject to an investigation,” i.e., the class or kind of merchandise to be investigated, which normally will be the scope as defined in the Petition.

With regard to the domestic like products, Petitioners do not offer definitions of domestic like products distinct from the scopes of the investigations. Petitioners state that the two domestic like products are certain tissue paper products and crepe paper products. Based on our analysis of the information submitted in the Petition, we have determined that there are two domestic like products, certain tissue paper products and certain crepe paper products, which are defined further in the “Scope of the Investigations” section above, and we have analyzed industry support in terms of these domestic like products. For more information on our analysis and the data upon which we relied, see First Supplemental Response; Antidumping Duty Investigation Initiation Checklist (“Initiation Checklist”), dated March 8, 2004, Attachment II - Industry Support on file in the Central Record Unit (“CRU”) in room B-099 of the main Department of Commerce building. Additionally, Petitioners stated that they do not object if the Department wants to conduct two separate investigations of certain tissue paper products and certain crepe paper products (see First Supplemental Response).

Based on the foregoing reasons and facts of this investigation, the Department will conduct two separate investigations of the subject merchandise, an individual investigation of certain tissue paper products from the PRC and an individual investigation of certain crepe paper products from the PRC.

In determining whether the domestic petitioners have standing, we considered the industry support data contained in the Petition with reference to the domestic like products as defined above in the “Scope of the Investigations” section. Petitioners note that the Harmonized Tariff System does not have discrete categories for tissue paper products and crepe paper products. Consequently, Petitioners derived estimates of total imports for each product by summing market intelligence data and applying actual industry knowledge. See Petition at 34. Petitioners provided a declaration from an individual familiar with the tissue paper and crepe paper industries in the United States to support their market intelligence findings. See Petition at Exhibit 9.

Using the data described above, individual shares of the total estimated U.S. production of both certain tissue paper products and certain crepe paper products, represented by Petitioners in year 2003, exceeds 50 percent of total domestic production of certain tissue paper products and over 50 percent of total domestic production of certain crepe paper products. Therefore, the Department finds the domestic producers of certain tissue paper products who support the Petition account for at least 25 percent of the total production of the domestic like product. The Department also finds the domestic producers of crepe paper products who support the Petition account for at least 25 percent of the total production of that domestic like product. In addition, as no domestic producers have expressed opposition to the Petition, the Department also finds the domestic producers of both certain tissue paper products and certain crepe paper products, who support the Petition, account for more than 50 percent of the total domestic production of their respective products produced by those portions of the industries expressing support for, or opposition to, the Petition.

Therefore, we find that Petitioners have met the requirements of section 732(c)(4)(A) of the Act, with respect to both certain tissue paper products and crepe paper products.

Scope of the Investigations

The products covered by these two investigations are: 1) certain tissue paper products, and 2) certain crepe paper products from the People's Republic of China.

Tissue Paper Products

The tissue paper products subject to investigation are cut-to-length sheets of tissue paper having a basis weight not exceeding 29 grams per square meter. Tissue paper products subject to this investigation may or may not be bleached, dye-colored, surface-colored, glazed, surface decorated or printed, sequined, crinkled, embossed, and/or die cut. The tissue paper subject to this investigation is in the form of cut-to-length sheets of tissue paper with a width equal to or greater than one-half (0.5) inch. Subject tissue paper may be flat or folded, and may be packaged by banding or wrapping with paper or film, by placing in plastic or film bags, and/or by placing in boxes for distribution and use by the ultimate consumer. Packages of tissue paper subject to this investigation may consist solely of tissue paper of one color and/or style, or may contain multiple colors and/or styles.

Tissue paper products subject to this investigation do not have specific classification numbers assigned to them under the Harmonized Tariff Schedule of the United States (“HTSUS”) and appear to be imported under one or more of the several different “basket” categories, including but not necessarily limited to the following subheadings: HTSUS 4802.30, HTSUS 4802.54, HTSUS 4802.61, HTSUS 4802.62, HTSUS 4802.69, HTSUS 4804.39, HTSUS 4806.40, HTSUS 4808.30, HTSUS 4808.90, HTSUS 4811.90, HTSUS 4823.90, HTSUS 9505.90.40.

Although the HTSUS subheadings are provided for convenience and customs purposes, the written description of the scope of the investigation is dispositive.

Excluded from the scope of the investigation are the following tissue paper products: (1) tissue paper products that are coated in wax, paraffin, or polymers, of a kind used in floral and food service applications; (2) tissue paper products that have been perforated, embossed, or die-cut to the shape of a toilet seat, i.e., disposable sanitary covers for toilet seats; (3) toilet or facial tissue stock, towel or napkin stock, paper of a kind used for household or sanitary purposes, cellulose wadding, and webs of cellulose fibers (HTS 4803.00.20.00 and 4803.00.40.00).

Crepe Paper Products

Crepe paper products subject to investigation have a basis weight not exceeding 29 grams per square meter prior to being creped and, if appropriate, flameproofed. Crepe paper has a finely wrinkled surface texture and typically but not exclusively is treated to be flame-retardant. Crepe paper is typically but not exclusively produced as streamers in roll form and packaged in plastic bags. Crepe paper may or may not be bleached, dye-colored, surface-colored, surface decorated or printed, glazed, sequined, embossed, die-cut, and/or flame-retardant. Subject crepe paper may be rolled, flat or folded, and may be packaged by banding or wrapping with paper, by placing in plastic bags, and/or by placing in boxes for distribution and use by the ultimate consumer. Packages of crepe paper subject to this investigation may consist solely of crepe paper of one color and/or style, or may contain multiple colors and/or styles.

Crepe paper products subject to this investigation do not have specific classification numbers assigned to them under the Harmonized Tariff Schedule of the United States (“HTSUS”) and appear to be imported under one or more of the several different “basket” categories, including but not necessarily limited to the following subheadings: HTSUS 4802.30, HTSUS 4802.54, HTSUS 4802.61, HTSUS 4802.62, HTSUS 4802.69, HTSUS 4804.39, HTSUS 4806.40, HTSUS 4808.30, HTSUS 4808.90, HTSUS 4811.90, HTSUS 4823.90, HTSUS 9505.90.40.

Although the HTSUS subheadings are provided for convenience and customs purposes, the written description of the scope of the investigation is dispositive.

Comments

As discussed in the preamble to the Department's regulations, we are setting aside a period for parties to raise issues regarding product coverage. See Antidumping Duties; Countervailing Duties; Final Rule, 62 FR 27296, 27323 (May 19, 1997). The Department encourages all interested parties to submit such comments within 20 days of publication of this notice. Comments should be addressed to Import Administration's Central Records Unit, Room 1870, U.S. Department of Commerce, 14th Street and Constitution Avenue, N.W., Washington, D.C. 20230. This period of scope consultations is intended to provide the Department with ample opportunity to consider all comments and consult with parties prior to the issuance of the preliminary determinations.

Period of Investigation

The anticipated period of investigation (“POI”) for the both certain tissue paper products and certain crepe paper products will be July 1, 2003 through December 31, 2003. See 19 CFR 351.204(b).

Export Price and Normal Value

The following are descriptions of the allegations of sales at less than fair value upon which the Department based its decision to initiate these investigations. The source or sources of data for the deductions and adjustments relating to U.S. market prices, cost of production (“COP”), and normal value (“NV”) have been accorded treatment as business proprietary information. Petitioners' sources and methodology are discussed in greater detail in the business proprietary version of the Petition and in our Initiation Checklist. Should the need arise to use any of this information as facts available under section 776 of the Act in our preliminary or final determinations, we may re-examine this information and revise the margin calculations, if appropriate.

Export Price

For certain tissue paper products and certain crepe paper products from the PRC, Petitioners based their calculations of U.S. Price on Export Price (“EP”), as tissue paper products and crepe paper products were offered for sale to unaffiliated U.S. purchasers prior to their importation. Prices were based on price quotes obtained by Petitioners from three Chinese producers of certain tissue paper products and crepe paper products in November 2003. See Petition Exhibit 31. Based on these quotes, Petitioners calculated an average per-unit price for 7 x 20, 20 count, white folded tissue paper and an average per-unit price for a 1: inch x 81 foot, scarlet crepe streamer in U.S. dollars. See Petition at 28 and Exhibit 30. Terms of delivery are free on board (“FOB”) China port.Petitioners were unable to adjust the U.S. price for deductions resulting from foreign inland freight and brokerage and handling charges incurred in China since Petitioners could not assess the exact distances that Chinese producers shipped the subject merchandise. Therefore, Petitioners note that the antidumping margin for certain tissue paper products and certain crepe paper products in the Petition are understated and conservative to the extent that the Petitioners' calculation of U.S. Price does not deduct foreign inland freight and brokerage and handling charges incurred in China. See Petition at 28-29.

Normal Value (“NV”)

Petitioners assert that the Department considers China to be a NME and therefore, constructed NV based on the factors of production methodology pursuant to section 773(c) of the Act. According to section 773(c) of the Act, if subject merchandise is exported from a NME country, the Department shall determine NV based on the value of the factors of production (“FOP”) used to produce the subject merchandise, as valued in a surrogate market economy country. In accordance with section 771(18)(C)(i) of the Act, the NME status remains in effect until revoked by the Department. See Notice of Final Determination of Sales at Less Than Fair Value: Honey from the People's Republic of China, 66 FR 50,608, 50,609 (October 4, 2001). In previous cases, the Department has determined that China is a NME country. The NME status of China has not been revoked by the Department and, therefore, remains in effect for purposes of the initiation of these investigations. In the course of these investigations, all parties will have the opportunity to provide relevant information related to the issues of China's NME status and the granting of separate rates to individual exporters.

Because China is a NME country, Petitioners stated that they valued all FOPs for producing certain tissue paper products and certain crepe paper products according to the values of those factors in India, the surrogate market economy country. See Notice of Final Determination of Sales at Less Than Fair Value: Certain Folding Gift Boxes from the People's Republic of China, 66 FR 58,115, 58,117 (November 20, 2001); Notice of Final Determination of Sales at Less Than Fair Value: Honey from the People's Republic of China, 66 FR 50,608, 50,609 (October 4, 2001). The surrogate values were derived from publicly published domestic prices, import prices, and quoted prices obtained from Indian manufacturers and reprinted in industry publications. See Petition at 21-27 and Exhibit 12. Factory overhead, general and administrative expenses, profit, the cost of packing, and other expenses were added to the cost of manufacturing associated with the production of each subject merchandise. See Petition at Exhibit 30.

Petitioners assert that India was an appropriate surrogate country based on the Department's surrogate country selection criteria for determining the NVs for subject merchandise from a NME country. Specifically, the two selection criteria, as required by the statute (see section 773(c)(4) of the Act), are economic comparability and significant production of comparable merchandise.

Petitioners point out that the Department has consistently found India to be an appropriate surrogate for China based on 1) the overall economic development of India according to the per capita gross national product (“GNP”), the national distribution of labor in India, and the growth rate in per capita GNP (see Memorandum from Catherine Bertrand, Case Analyst, Through Edward C. Yang Office Director, and James C. Doyle, Program Manager, To the File, Antidumping Investigation of Certain Hot-Rolled Carbon Steel Flat Products From the People's Republic of China: Selection of a Surrogate Country at 2 (April 23, 2001)); and 2) findings that India is a “significant producer” of comparable merchandise. See section 773(c)(4) of the Act. Petitioners obtained promotional materials from Pudumjee Pulp and Paper, an Indian producer of comparable merchandise, that supports a finding that India is a significant producer of certain tissue paper products and certain crepe paper products. See Petition at 18 and Exhibit 13.

Although the usage rates of the FOPs for both certain tissue paper products and certain crepe paper products should be based on the actual consumption rates of the investigated Chinese producers (see section 773(c)(1) of the Act and 19 CFR 351.408(a)), Petitioners were unable to obtain the true amounts of inputs consumed by the Chinese producers. Petitioners established reasonable estimates of the per-unit consumption amounts of the FOPs, actual consumption rates of the FOPs, and usage rates of the FOPs for certain tissue paper products and certain crepe paper products produced by the Chinese producers, based on the actual production experience and consumption rates of a domestic producer of tissue paper products and crepe paper products during the period July 1, 2003 through December 31, 2003, the proposed POI. See Petition at 19. This domestic producer's tissue paper and crepe paper production processes are representative of the production experiences of the Chinese manufacturers of subject merchandise that are exported to the United States. See Petition at 19 and Exhibit 14; Petition at 20, Exhibit 14, and Third Supplemental Response at Exhibit 3, for revised calculations of NV and FOP. Additionally, according to Petitioners, the tissue paper products and crepe paper products produced by this domestic manufacturer are also highly representative of the Chinese producers tissue paper products and crepe paper products in size, packaging, and tissue color. See Petition at 20.

The FOP values of the domestic producer of tissue paper products and crepe paper products were adjusted to account for the known differences in quantities and production processes used by the Chinese producers of subject merchandise. See Declaration (Petition at Exhibit 5).

However, Petitioners believe that the FOP usage rates contained in the Petition are conservative estimates of the actual usage rates incurred by Chinese manufacturers of subject merchandise because Petitioners believe that the domestic producers' production experience is more cost-efficient than the production methods of Chinese manufacturers of both tissue paper products and crepe paper products. See Petition at pages 19 and 20 and Exhibit 5, Paragraphs 10 and 11.

Petitioners also note that the production process of tissue paper differs between U.S. producers and Chinese manufacturers in one particular respect. Typically, Chinese production of tissue paper products employs an extensive amount of manual labor for folding and packaging the merchandise. Petitioners stated that in constructing the normal values for Chinese tissue paper products, they used labor hour data from domestic companies that offer manual folding and packaging services to domestic producers of tissue paper, as an estimate of the labor hours used to fold and package the Chinese tissue paper products. See Petition at 20.

Petitioners calculated the total cost for each input used to produce the subject merchandise by converting Indian prices denominated in rupees to U.S. dollars, using the average Indian rupee/U.S. dollar exchange rate during the period July 1, 2003 through December 31, 2003. The average exchange rate was calculated based on daily exchange rates downloaded from the ITA website. See Petition at 21.

Factor input prices for all raw materials consist of prices from only non-NME countries except for Thailand, Korea, and Indonesia, consistent with prior Department determinations. These prices were the most contemporaneous prices available at the time of the Petition filing.

Factor of Production for: White Folded Tissue Paper, 7 x 20 Inch, 20 Count

Tinopal is an optical brightener used to enhance the whiteness of white tissue paper, the sample product chosen by Petitioners to calculate normal value, and was valued by Petitioners using publicly available Indian intelligence trade data obtained from InfoDrive. See Petition at 24. Indian imports of Tinopal are categorized under HTS number 3204.20.10 for the period June 2003 to August 2003. See Petition at 24 and Second Supplemental Response at Exhibit 5.

Factors of Production for: Scarlet Crepe Streamer, 1 3/4 Inch x 81 Foot

The chemical dye used in the production of scarlet crepe streamers was valued using price quotes provided in Chemical Weekly, an Indian chemical industry journal. Petitioners stated that editions of Chemical Weekly provided Indian market prices, from the Mumbai Dye Market, for dyes used in the manufacture of tissue paper, such as “Scarlet 4B (Direct Red),” for the months of July 2003 through November 2003. Petitioners stated that no prices were available for December 2003. See Petition at 22 and Exhibits 16 & 17.

Cartafix, a dye fixative and factor input used in the production of scarlet crepe streamers, is categorized under HTS number 3809.92.00. Petitioners valued Cartafix using publicly available Indian intelligence trade data from InfoDrive for the period March 2003 through May 2003. Prices were represented from non-NME countries only, and these prices were the most contemporaneous data available to Petitioners. Accordingly, prices for Cartafix were inflated using the World Price Index (“WPI”) inflator. See Petition at 23 and Second Supplemental Response at Exhibit 5.

Flame-proof salts are only used in the production of crepe paper products and were valued by Petitioners using Indian import data contained in the Monthly Statistics of Foreign Trade of India, (“MSFTI”). The surrogate value for flame-proof salts was based on Indian imports classified under tariff heading 3809.92.00. See Petition at Exhibit 24 and at page 24. The value was based on data for the period April 2002 through January 2003 and was inflated using the WPI inflator. See Second Supplemental Response at 6 and Exhibits 5 & 6.

Factors of Production for: White Folded Tissue Paper, 7 x 20 Inch, 20 Count and Scarlet Crepe Streamer, 1 3/4 Inch x 81 Foot

Petitioners valued wood pulp using Indian surrogate values derived from InfoDrive (see www.InfodriveIndia.com), a source of surrogate value data recognized and relied upon by the Department in other proceedings. The data from InfoDrive are specific to the types of wood pulp consumed in the production of subject merchandise and are also contemporaneous with the POI See Second Supplemental Response at 4 and Exhibit 2.

Sulfuric acid is an input used in the production of both tissue paper products and crepe paper products. Petitioners stated that sulfuric acid was valued using price quotes, from the Mumbai and Bangalore chemical markets, printed in Chemical Weekly for the period July 2003 through December 2003. Petitioners stated that prices from the two markets, spanning the POI, were comparable, and the prices were averaged in Petitioners' normal value calculations. See Petition at Exhibit 18. Source documentation was included for these chemical prices published in Chemical Weekly. See Petition at 22 and Exhibit 19.

Water was valued by Petitioners using the publicly available water tariff rates reported in the second Water Utilities Data Book: Asian and Pacific Region, published by the Asian Development Bank (see Petition at Exhibit 20) in accordance with the Department's reliance on this source in the past (see Notice of Preliminary Results of Antidumping Duty New Shipper Review: Glycine from the People's Republic of China, 68 FR 13,669, 13,771 (March 20, 2003)). Water tariff rates were provided as of 1995-1996 for three areas in India in which the subject merchandise is produced: Chennai, Delhi, and Mumbai. Petitioners averaged the rupee per kilogram rates applicable to industrial users in Chennai and Delhi and factories/works/mills in Mumbai to derive an average rupee per kilogram price. Because Petitioners could only acquire data reported for a period prior to the POI, the average rupee per kilogram price was adjusted using the WPI inflator. See Petition at 23 and Second Supplemental Response at Exhibit 6.

Other Factors of Production: Packaging, Labor and Energy Costs

Packing was calculated for both tissue paper products and crepe paper products using retail bags, retail labels, carton labels, wholesale plastic bags, and corrugated boxes. Petitioners valued retail labels, carton labels, and wholesale plastic bags, and corrugated boxes using Indian import data contained in the MSFTI. The HTS classification was based on Indian imports under tariff heading 4821.10.01, 3923.21.00, 4819.10.01 and 4819.20.01, respectively. Petitioners stated that they calculated a surrogate value for each packing material based on Indian imports classified under these tariff headings for the period April 2002 through January 2003, which were the most contemporaneous data available. See Petition at 26 & 27 and Second Supplemental Response at Exhibits 3 & 5. Petitioners obtained the surrogate price for retail bags from price quotes of an Indian producer of retail bags of precisely the type consumed in the production of subject merchandise. The Indian surrogate price is specific to the types of retail bags consumed in the production of subject merchandise and the POI. See Second Supplemental Response at 5 and Exhibits 2, 3, & 5.

Pursuant to 19 CFR § 351.408(c)(3), Petitioners used the labor value for China as published by the Department at http://ia.ita.doc.gov/wages/01wages/01wages.html. The most current labor value in China is US$ 0.90 per hour based on 2001 data. See Petition at 25.

Energy costs associated with the manufacture of tissue paper products and crepe paper products consist of electricity and fuel oil. Petitioners used Indian prices for industrial electricity and fuel oil values published in the 2003 second quarter edition of the International Energy Agency's Energy Prices and Taxes (“IEA”) publication, which provided data for the year 2000. See Petition at Exhibit 25. Because this data is for a time period outside the POI, they were adjusted for inflation using the WPI inflator. See Petition at 25, 26 and Exhibit 25 and Second Supplemental Response at Exhibit 4.

Factory overhead, SG&A, and profit ratios for subject merchandise were calculated by Petitioners using the financial statement of Pudumjee Pulp and Paper, an Indian producer of subject merchandise. See Petition at 27 and Exhibit 29, and Second Supplemental Response at 6 and 7. Factory overhead, SG&A, and Profit ratios for subject merchandise were 36.31 percent, 34.13 percent, and 1.59 percent respectively. See Petition at Exhibit 29. Depreciation was allocated according to the type of fixed assets to which the depreciation was related. See Second Supplemental Response at 6 and Petition, Exhibit 29 at 23.

Based on the above calculations, Petitioners estimated FOP-based NVs for Chinese production of certain tissue paper products and certain crepe paper products. See Initiation Checklist for proprietary details of FOP-based NVs. The estimated antidumping margin for tissue paper is 163.36 percent and the estimated antidumping margin for crepe paper is 266.83 percent. See Third Supplemental Response at Exhibit 3.

Fair Value Comparisons

Based on the data provided by Petitioners, there is reason to believe imports of certain tissue paper products and certain crepe paper products from the PRC are being, or are likely to be, sold at less than fair value.

Allegations and Evidence of Material Injury and Causation

Petitioners allege that the U.S. tissue paper industry and crepe paper industry are being materially injured, or threatened with material injury, by reason of the imports of the subject merchandise sold at less than NV from the PRC.

Petitioners contend that the tissue paper and crepe paper industry's injured condition is evident from examining economic indicators preceding the POI and during the POI, such as increase in volume and market share of imports, decline in domestic prices, decrease in U.S. shipments, decline in operating income, decrease of domestic market share, drop in domestic capacity utilization rates, lost sales and lost revenue. See Petition at pages 35-45; Initiation Checklist at Attachment III; Second Supplemental Response at pages 11-12.

Initiation of Antidumping Investigations

Based on our examination of the Petition covering certain tissue paper products and certain crepe paper products, we find that the Petition meets the requirements of section 732 of the Act. Therefore, we are initiating two antidumping duty investigations to determine whether imports of certain tissue paper products and certain crepe paper products from the PRC are being, or are likely to be, sold in the United States at less than fair value. Unless this deadline is extended pursuant to section 733(b)(1)(A) of the Act, we will make our preliminary determinations no later than 140 days after the date of this initiation, or July 26, 2004.

Distribution of Copies of the Petition

In accordance with section 732(b)(3)(A) of the Act, a copy of the public version of the Petition has been provided to representatives of the government of the PRC. We will attempt to provide a copy of the public version of the Petition to each exporter named in the Petition, as provided in section 19 CFR 351.203(c)(2).

International Trade Commission Notification

The ITC will preliminarily determine on April 2, 2004, whether there is reasonable indication that imports of certain tissue paper products and certain crepe paper products from the PRC are causing, or threatening, material injury to a U.S. industry. A negative ITC determination will result in the investigations being terminated with respect to these products; otherwise, these investigations will proceed according to statutory and regulatory time limits.

Administrative Protective Order (“APO”) Access

APO access in these investigations will be granted under two separate APOs, with separate APO and Public Service Lists. All interested parties who had been granted APO status under the initial case number assigned to tissue paper products and crepe paper products from the People's Republic of China will need to re-apply for APO access in the now separate investigation of crepe paper products under the case number A-570-895. The initial APO listing both products will be amended for the tissue paper products investigation. Any party who no longer qualifies to be an interested party in the tissue paper products investigation will need to withdraw their APO application as it pertains to this investigation.

This notice is issued and published pursuant to section 777(i) of the Act.

Dated: March 8, 2004.
James J. Jochum,
Assistant Secretary for Import Administration.

[FR Doc. 04-5798 Filed 3-12-04; 8:45 am]

BILLING CODE 3510-DS-S